DEPARTMENT OF ENERGY

Federal Energy Regulatory Commission

[Docket Nos. GT02-22-001 and GT02-25-001]

Petal Gas Storage, L.L.C.; Notice of Compliance Tariff Filing

August 23, 2002.

Take notice that on August 16, 2002, Petal Gas Storage, L.L.C. (Petal), tendered for filing Compliance Tariff Filing.

Petal's filing is in compliance with the Commission's May 31, 2002, Order regarding a Firm Transportation Service Agreement between Petal and Southern Company Services, Inc., which contains certain deviations from Petal's pro forma service agreement. Petal states that copies of the filing have been mailed to each of its customers and affected state regulatory commissions.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-22041 Filed 8-28-02; 8:45 am]

BILLING CODE 6717-01-P